DEPARTMENT OF HOUSING AND URBAN DEVELOPMENT

[Docket No. FR-5558-D-02]

Order of Succession for the Office of Departmental Operations and Coordination

AGENCY: Office of Departmental Operations and Coordination, HUD.

ACTION: Notice of order of succession.

SUMMARY: In this notice, the Director, Office of Departmental Operations and Coordination, Department of Housing and Urban Development, designates the Order of Succession for the Office of Departmental Operations and Coordination. This Order of Succession supersedes any previous Order of Succession for the Office of Departmental Operations and Coordination.

DATES: Effective Date: October 4, 2011.

FOR FURTHER INFORMATION CONTACT: Edwardo S. Bowen, Office of Departmental Operations and Coordination, Department of Housing and Urban Development, 451 7th Street SW., Room 2124, Washington, DC 20410, telephone number (202) 708-2806, extension 2143. (This is not a toll-free number.) Individuals with speech or hearing impairments may access this number through TTY by calling the toll-free Federal Relay Service at 1 (800) 877-8339.

SUPPLEMENTARY INFORMATION: The Director, Office of Departmental Operations and Coordination, Department of Housing and Urban Development, is issuing this Order of Succession of officials authorized to perform the functions and duties of the Office of Departmental Operations and Coordination when, by reason of absence, disability, or vacancy in office, the Director is not available to exercise the powers or perform the duties of the office. This Order of Succession is subject to the provisions of the Federal Vacancies Reform Act of 1998 (5 U.S.C. 3345-3349d). This publication supersedes any previous Order of Succession by the Office of Departmental Operations and Coordination.

Accordingly, the Director designates the following Order of Succession:

Section A. Order of Succession

Subject to the provisions of the Federal Vacancies Reform Act of 1998, during any period when, by reason of absence, disability, or vacancy in office, the Director of the Office of Departmental Operations and Coordination of the Department of Housing and Urban Development is not available to exercise the powers or perform the duties of the Director, the following officials within the Office of Departmental Operations and Coordination are hereby designated to exercise the powers and perform the duties of the office:

(1) Deputy Director, Office of Departmental Operations and Coordination.

(2) Director, Office of Labor Relations.

These officials shall perform the functions and duties of the office in the order specified herein, and no official shall serve unless all the other officials, whose position titles precede his/hers in this order, are unable to act by reason of absence, disability, or vacancy in office.

Section B. Authority Superseded

This Order of Succession supersedes any previous Order of Succession published by the Office of Departmental Operations and Coordination.

Authority: Section 7(d), Department of Housing and Urban Development Act, 42 U.S.C. 3535(d).

Dated: October 4, 2011.
Inez Banks-Dubose,
Director.

[FR Doc. 2011-26711 Filed 10-14-11; 8:45 am]

BILLING CODE 4210-67-P